CORPORATION FOR NATIONAL AND COMMUNITY SERVICE

Request for Input on Grants for Outreach to Individuals with a Disability

AGENCY: Corporation for National and Community Service.

ACTION: Request for input.

SUMMARY: Section 129(d)(5) of the National and Community Service Act authorizes grants to public or private nonprofit organizations to pay for the Federal share of conducting outreach to individuals with a disability concerning national service programs. The Corporation for National and Community Service (“Corporation”) requests input from the public on how we might best support this type of outreach. We will use this input in developing a notice of funds availability to be published in the Federal Register later this year.

DATES: Please submit your written comments by March 31, 2000.

ADDRESSES: Send comments to Thea Kachoris, Corporation for National Service, 1201 New York Avenue NW, Washington, DC 20525 or preferably via electronic mail at: tkachoris@cns.gov.

FOR FURTHER INFORMATION CONTACT: Nancy Talbot, (202) 606-5000, ext. 470. T.D.D. (202) 565-2799. If you need this notice in an alternative format, please contact Ms. Talbot.

SUPPLEMENTARY INFORMATION:

Background

The Corporation for National and Community Service (the Corporation) was established in 1993 to engage Americans of all ages and backgrounds in service to their communities. The Corporation's national and community service programs provide opportunities for participants to serve full-time and part-time, with or without stipend, as individuals or as part of a team. AmeriCorps*State, National, VISTA, and National Civilian Community Corps programs engage thousands of Americans on a full, or part-time basis, at over 1,000 locations to help communities meet their toughest challenges. Learn and Serve America integrates service into the academic life or experiences of nearly one million youth from kindergarten through higher education in all 50 states. The National Senior Service Corps utilizes the skills, talents and experience of over 500,000 older Americans to help make communities stronger, safer, healthier and smarter.

AmeriCorps*State and AmeriCorps*National programs, which involve over 40,000 Americans each year in results-driven community service, are grant programs managed by: (1) state commissions that select and oversee programs operated by local organizations; (2) national non-profit organizations that act as parent organizations for operating sites across the country; (3) Indian tribes; or (4) U.S. Territories. Learn and Serve America grants provide service-learning opportunities for youth through grants to state education agencies, community-based organizations, and higher education institutions and organizations. The National Senior Service Corps operates through grants to nearly 1,300 local organizations for the Retired and Senior Volunteer (RSVP), Foster Grandparent (FGP) and Senior Companion (SCP) programs to provide service to their communities.

In addition, the Corporation supports the AmeriCorps*VISTA (Volunteers in Service to America) and AmeriCorps*NCCC (National Civilian Community Corps) programs. More than 6,000 AmeriCorps*VISTA members develop grassroots programs, mobilize resources and build capacity for service across the nation. AmeriCorps*NCCC provides the opportunity for approximately 1,000 individuals between the ages of 18 and 24 to participate each year in ten-month residential programs located mainly on inactive military bases.

For additional information on the national service programs supported by the Corporation, go to http://www.nationalservice.org.

Outreach Grants

Section 129(d)(5) of the National and Community Service Act authorizes grants for two purposes related to increasing the participation of individuals with disabilities in national service: (1) grants to support the placement, reasonable accommodation, and auxilliary services for AmeriCorps members serving in what are commonly known as subtitle C AmeriCorps State competitive and National Direct programs; and (2) grants for outreach to individuals with a disability. This notice concerns only the second category. Outreach grants are available for public or private nonprofit organizations to pay for the Federal share of conducting outreach to individuals with a disability concerning national service programs. The Federal share may not exceed 75 percent of the cost of carrying out the activities under each grant. A grantee must provide a 25 percent match, either in cash or in kind. Under section 129(d)(5), outreach grant funds may support

• providing information about national service programs to individuals with a disability who wish to participate;

• undertaking other promotional activities that educate the public about opportunities for individuals with a disability to participate in national service programs;

• enabling individuals with a disability to participate in activities carried out through national service programs;

• assisting national service programs in developing ways to increase the participation of individuals with a disability in national service programs.

Based on past appropriations and allocations of funding, and projections for the future, we estimate that the total amount of funds available each year for these outreach grants will be between $2 million and $4 million.

We are particularly interested in receiving input on the following questions:

1. What are the most common and most significant barriers to greater participation by individuals with disabilities in national service programs?

2. What types of outreach activities would be most effective in increasing the participation in national service of persons with disabilities? Should we tailor grants to specific types of outreach activities or make grants for the general purpose of outreach?

3. Given the large number of potential applicants for these funds, how should we set priorities in making outreach grants?

4. How should we distribute funds? Should we rely on State Commissions and State Education Agencies as a principal conduit?

Dated: February 24, 2000.
Gary Kowalczyk,
Director, Office of Planning and Program Integration.

[FR Doc. 00-4792 Filed 2-28-00; 8:45 am]

BILLING CODE 6050-28-U